DEPARTMENT OF VETERANS AFFAIRS

[OMB Control No. 2900-0005]

Agency Information Collection Activity Under OMB Review: Application for DIC by Parent(s) Including Accrued Benefits and Death Compensation

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0005”.

FOR FURTHER INFORMATION CONTACT: Maribel Aponte, Office of Enterprise and Integration, Data Governance Analytics (008), 1717 H Street NW, Washington, DC 20006, (202) 266-4688 or email maribel.aponte@va.gov. Please refer to “OMB Control No. 2900-0005” in any correspondence.

SUPPLEMENTARY INFORMATION: Authority: 38 U.S.C. 1121, 1310, 5121.

Title: Application for DIC by Parent(s) (Including Accrued Benefits and Death Compensation) (VA Form 21P-535).

OMB Control Number: 2900-0005.

Type of Review: Reinstatement with change of a previously approved collection.

Abstract: 38 U.S.C. 1121 and 1310 provide for payment of Dependency and Indemnity Compensation (DIC) or Death compensation to parents of a Veteran whose death is service-connected. Parents must also meet income limitation to be eligible for benefits. 38 U.S.C. 5121 provides for payment of accrued benefits. VBA uses 21P-535 to collect the information necessary to determine a surviving parent's eligibility to Parents' DIC benefits.

An agency may not conduct or sponsor, and a person is not required to respond to a collection of information unless it displays a currently valid OMB control number. The Federal Register Notice with a 60-day comment period soliciting comments on this collection of information was published at 86 FR 62 on April 2, 2021, page 17456.

Affected Public: Individuals or Households.

Estimated Annual Burden: 4,320 hours.

Estimated Average Burden per Respondent: 72 minutes.

Frequency of Response: One time.

Estimated Number of Respondents: 3,600.

By direction of the Secretary.
Maribel Aponte,
VA PRA Clearance Officer, Office of Enterprise and Integration, Data Governance Analytics, Department of Veterans Affairs.

[FR Doc. 2021-12465 Filed 6-14-21; 8:45 am]

BILLING CODE 8320-01-P